DEPARTMENT OF TRANSPORTATION

Federal Aviation Administration

Waiver of Aeronautical Land-Use Assurances: New Century AirCenter Airport (IXD), New Century, KS

AGENCY: Federal Aviation Administration (FAA), DOT.

ACTION: Notice of Intent of Waiver with respect to land.

SUMMARY: The Federal Aviation Administration (FAA) is considering a proposal from the Johnson County Airport Commission (sponsor), New Century, KS, to release 623.74+ acres of land from the federal obligation dedicating it to aeronautical use and to authorize this parcel to be used for revenue-producing, non-aeronautical purposes.

DATES: Comments must be received on or before May 28, 2019.

ADDRESSES: Comments on this application may be mailed or delivered to the FAA at the following address: Lynn D. Martin, Airports Compliance Specialist, Federal Aviation Administration, Airports Division, ACE-610C, 901 Locust Room 364, Kansas City, MO 64106.

In addition, one copy of any comments submitted to the FAA must be mailed or delivered to: Aaron Otto, Executive Director, Johnson County Airport Commission, 1 New Century Parkway, New Century, KS 66031, (913) 715-6002.

FOR FURTHER INFORMATION CONTACT: Lynn D. Martin, Airports Compliance Specialist, Federal Aviation Administration, Airports Division, ACE-610C, 901 Locust Room 364, Kansas City, MO 64106, Telephone number (816) 329-2644, Fax number (816) 329-2611, email address: lynn.martin@faa.gov.

SUPPLEMENTARY INFORMATION: The FAA invites public comment on the request to change approximately 623.74+ acres of airport property at the New Century AirCenter Airport (IXD) from aeronautical use to non-aeronautical for revenue producing use. These parcels will be used for commercial/industrial operations.

No airport landside or airside facilities are presently located on these parcels, nor are airport developments contemplated in the future. There is no current use of the surface of the parcels. These parcels will serve as revenue producing lots with the proposed change from aeronautical to non-aeronautical. The request submitted by the Sponsor meets the procedural requirements of the Federal Aviation Administration and the change to non-aeronautical status of the property does not and will not impact future aviation needs at the airport. The FAA may approve the request, in whole or in part, no sooner than thirty days after the publication of this Notice.

The following is a brief overview of the request:

The New Century AirCenter Airport (IXD) is proposing the release of five parcels, for a total of 623.74 acres, more or less from aeronautical to non-aeronautical. The release of land is necessary to comply with Federal Aviation Administration Grant Assurances that do not allow federally acquired airport property to be used for non-aviation purposes. The rental of the subject property will result in the land at the New Century AirCenter Airport (IXD) being changed from aeronautical to nonaeronautical use and release the lands from the conditions of the Airport Improvement Program Grant Agreement Grant Assurances. In accordance with 49 U.S.C. 47107(c)(2)(B)(i) and (iii), the airport will receive fair market rental value for the property. The annual income from rent payments will generate a long-term, revenue-producing stream that will further the Sponsor's obligation under FAA Grant Assurance number 24, to make the New Century AirCenter Airport as financially self-sufficient as possible.

Following is a legal description of the subject airport property at the New Century AirCenter Airport (IXD):

Tract A

All that part of the Northeast Quarter of Section 7, Township 14 South, Range 23 East of the 6th Principle Meridian in Johnson County, Kansas, described as follows:

Commencing at the Southwest corner of the Northeast Quarter of said Section 7, thence North 88 degrees 01 minute 18 seconds East along the South line of the Northeast Quarter of said Section 7, a distance of 685.58 feet to the point of beginning; thence North 01 degree 55 minutes 50 seconds West, a distance of 2013.43 feet; thence North 87 degrees 53 minutes 18 seconds East, a distance of 494.00 feet; thence North 01 degree 55 minutes 50 seconds West, a distance of 564.26 feet to a point on the South right-of-way line of 151st street; thence Easterly along a curve to the right having an initial tangent bearing of North 89 degrees 47 minutes 42 seconds East, a radius of 11399.16 feet, a central angle of 0 degrees 47 minutes 58 seconds and an arc length of 159.05 feet; thence South 89 degrees 24 minutes 16 seconds East along the South right-of-way line of 151st street, a distance of 200.00 feet; thence Easterly along a curve to the left having a radius of 11519.16 feet, a central angle of 0 degrees 52 minutes 35 seconds and an arc length of 176.19 feet; thence South 0 degrees 38 minutes 01 seconds East along the West right-of-way line of New Century Parkway, now established, a distance of 455.68 feet; thence Southerly along a curve to the right having a radius of 1410 feet, a central angle of 6 degrees 27 minutes 44 seconds and an arc length of 159.03 feet, along said West right-of-way; thence Southerly along a curve to the right having a radius of 1279.30 feet an initial tangent bearing of South 07 degrees 05 minutes 55 seconds East, a central angle of 17 degrees 38 minutes 15 seconds and an arc length of 393.81 feet, along said West right-of-way line; thence along a curve to the right along said West right-of-way line, having a radius of 4479.10 feet, an initial tangent bearing of South 11 degrees 07 minutes 59 seconds West, a central angle of 03 degrees 30 minutes 19 seconds and an arc length of 273.81 feet; thence South 16 degrees 10 minutes 16 seconds West along said West right-of-way line, a distance of 272.86 feet; thence South 88 degrees 04 minutes 00 seconds West along said West right-of-way line, a distance of 94.51 feet; thence South 10 degrees 27 minutes 51 seconds East along said West right-of-way line, a distance of 200.38 feet; thence South 16 degrees 10 minutes 16 seconds West along said West right-of-way line, a distance of 873.28 feet to a point on the South line of the Northeast Quarter of said Section 7; thence South 88 degrees 01 minutes 18 seconds West along the South line of the Northeast Quarter of said Section 7, a distance of 490.09 feet to the point of beginning, containing 1,900,212.00 Sq. Ft. or 43.62 Ac. more or less, subject to that part in roads and easements.

Tract B

All that part of the Northeast Quarter of Section 7, Township 14 South, Range 23 East of the 6th Principle Meridian in Johnson County, Kansas, described as follows:

Commencing at the Northeast corner of the Northeast Quarter of said Section 7; thence South 01 degree 54 minutes 48 seconds East along the East line of the Northeast Quarter of said Section 7, a distance of 108.06 feet; thence South 88 degrees 05 minutes 12 seconds West, a distance of 20.00 feet to a point on the South right-of-way line of 151st Street also being the point of beginning; thence South 01 degree 54 minutes 48 seconds East parallel and 20 feet West of the East line of the Northeast Quarter of said Section 7, a distance of 1513.90 feet; thence South 88 degrees 04 minutes 00 seconds West, a distance of 1036.47 feet to a point of the East right-of-way line of New Century Parkway, now established, thence North 16 degrees 10 minutes 16 seconds East along said East right-of-way line, a distance of 247.77 feet; thence Northerly along a curve to the left having an initial tangent bearing of North 14 degrees 38 minutes 56 seconds East, a radius of 4559.10 feet, a central angle of 16 degrees 27 minutes 02 seconds and an arc length of 1309.00 feet to a point of the South right-of-way line of 151st Street; thence along a curve to the right having an initial tangent bearing of North 88 degrees 58 minutes 57 seconds East, a radius of 11519.16 feet, a central angle of 01 degree 05 minutes 35 seconds and an arc length of 219.76 feet; thence North 87 degrees 53 minutes 18 seconds East along the said South right-of-way line, a distance of 217.56 feet; thence South 83 degrees 34 minutes 45 seconds East along said South right-of-way line, a distance of 101.12 feet; thence North 87 degrees 53 minutes 18 seconds East along said South right-of-way line, a distance of 200.00 feet; thence North 83 degrees 39 minutes 33 seconds East along the South right-of-way line of 151st Street, a distance of 33.16 feet to the point of beginning, containing 1,305,862.08 Sq. Ft. or 29.97 Ac. more or less, subject to that part in roads and easements.

Tract C

All that part of the West half of Section 8, Township 14 South, Range 23 East of the 6th Principle Meridian in Johnson County, Kansas, described as follows:

Commencing at the Northeast corner of the Northwest Quarter of said Section 8; thence South 01 degree 50 minutes 43 seconds East along the East line of the Northwest Quarter of said Section 8, a distance of 95.00 feet to the point of beginning; thence continuing South 01 degree 50 minutes 43 seconds East along the said East line, a distance of 2550.52 feet to the Southeast corner of the Northwest Quarter of said Section 8; thence South 01 degree 51 minutes 09 seconds East along the East line of the Southwest Quarter of said Section 8, a distance of 664.19 feet; thence South 87 degrees 54 minutes 11 seconds West, a distance of 1394.30 feet; thence South 01 degrees 50 minutes 55 seconds East, a distance of 1951.05 feet to a point on the Northerly right-of-way line of 159th Street; thence South 87 degrees 54 minutes 29 seconds West along said Northerly right-of-way line, a distance of 189.54 feet; thence Northerly along a curve to the right having an initial tangent bearing of South 87 degrees 49 minutes 35 seconds West, a radius of 222.50 feet, a central angle of 90 degrees 15 minutes 47 seconds and an arc length of 350.52 feet to a point of the East right-of-way line of North Loop Road, as now established; thence North 01 degree 54 minutes 38 seconds West along said Easterly right-of-way line, a distance of 574.67 feet; thence North 01 degree 54 minutes 53 seconds West along said East right-of-way line, a distance of 1135.60 feet; thence Northerly along a curve to the left having initial tangent bearing of North 01 degree 35 minutes 50 seconds West, a radius of 611.09 feet, a central angle of 85 degrees 20 minutes 32 seconds and an arc length of 910.22 feet; thence North 06 degrees 35 minutes 50 seconds East, a distance of 68.55 feet to a point on the South line of the Northwest Quarter of said Section 8; thence continuing North 06 degrees 35 minutes 50 seconds East, a distance of 1037.49 feet; thence South 88 degrees 04 minutes 00 seconds West, a distance of 514.85 feet to a point on the West line of said Northwest Quarter, said point being 1027.04 feet North of the Southwest corner of the Northwest Quarter of said Section 8; thence North 01 degree 54 minutes 48 seconds West along said West line, a distance of 1596.95 feet to a point on the South right-of-way line of 151st Street; thence North 87 degrees 58 minutes 36 seconds East along said South right-of-way line, a distance of 20.06 feet; thence South 02 degrees 03 minutes 34 seconds East continuing along said South right-of-way line, a distance of 79.54 feet; thence North 83 degrees 39 minutes 58 seconds East along said South right-of-way line, a distance of 126.88 feet; thence North 87 degrees 58 minutes 36 seconds East along said South right-of-way line, a distance of 200.00 feet; thence South 83 degrees 29 minutes 33 seconds East along said South right-of-way line, a distance of 202.24 feet; thence North 87 degrees 58 minutes 36 seconds East along said South right-of-way line, a distance of 400.00 feet; thence North 82 degrees 15 minutes 58 seconds East along said South right-of-way line, a distance of 301.50 feet; thence North 87 degrees 58 minutes 36 seconds East along said South right-of-way line, a distance of 900.00 feet; thence South 02 degrees 01 minutes 24 seconds East along said South right-of-way line, a distance of 20.00 feet; thence North 87 degrees 58 minutes 36 seconds East along said South right-of-way line, a distance of 100.00 feet; thence North 85 degrees 06 minutes 51 seconds East along said South right-of-way line, a distance of 400.50 feet; thence North 87 degrees 58 minutes 36 seconds East along said South right-of-way line, a distance of 75.77 feet to the point of beginning, containing 8,586,565.91 Sq. Ft. or 197.12 Ac. more or less, subject to that part in roads and easements.

Tract D

All that part of Section 17, Township 14 South, Range 23 East of the 6th Principle Meridian in Johnson County, Kansas, described as follows:

Commencing at the Southeast corner of the Northeast Quarter of said Section 17; thence South 87 degrees 57 minutes 21 seconds West along the South line of the Northeast Quarter of said Section 17, a distance of 34.99 feet to the point of beginning; thence South 87 degrees 57 minutes 21 seconds West along the South line of the Northeast Quarter of said Section 17, a distance of 1324.62 feet to the Northeast corner of the West half of the Southeast Quarter of said Section 17; thence South 01 degree 41 minutes 01 second East along the East line of the West half of the Southeast Quarter of said Section 17, a distance of 2645.79 feet to the Southeast corner of the West half of the Southeast Quarter of said Section 17; thence South 88 degrees 03 minutes 28 seconds West along the South line of the Southeast Quarter of said Section 17, a distance of 1355.59 feet to the Southwest corner of the Southeast Quarter of said Section 17; thence South 88 degrees 03 minutes 36 seconds West along the South line of the Southwest Quarter of said Section 17, a distance of 2100.15 feet to a point 608.93 feet East of the Southwest corner of the Southwest Quarter of said Section 17; thence North 01 degree 41 minutes 15 seconds West, a distance of 1581.43 feet; thence North 45 degrees 03 minutes 45 seconds East, a distance of 2876.30 feet to a point on the West line of the Northeast Quarter of said Section 17; thence North 01 degree 45 minutes 46 seconds West along the said West line, a distance of 681.35 feet; thence North 45 degrees 08 minutes 14 seconds East, a distance of 1492.49 feet to a point on the South right-of-way line of 159th Street; thence North 87 degrees 40 minutes 07 seconds East along the South right-of-way line of 159th Street, a distance of 1278.56 feet; thence South 81 degrees 05 minutes 55 seconds East along the South right-of-way line of 159th Street, a distance of 255.11 feet to a point on the West right-of-way line of US 56 Highway; thence South 15 degrees 35 minutes 22 seconds East along said West right-of-way, a distance of 272.13 feet to a point 35 feet West of the East line of the Northeast Quarter of said Section 17; thence South 01 degree 46 minutes 14 seconds East along a line parallel to the East line of said Northeast Quarter, a distance of 2288.80 feet to the point of beginning, containing 15,369,040.89 Sq. Ft. or 352.82 Ac. more or less, subject to that part in roads and easements.

Tract E

All that part of the Southeast Quarter of Section 19, Township 14 South, Range 23 East 29.97 of the 6th Principle Meridian in Johnson County, Kansas, described as follows:

Commencing at the Southeast corner of the Southeast Quarter of said Section 19; thence South 88 degrees 00 minutes 41 seconds West along the South line of the Southeast Quarter of said Section 19, a distance of 367.09 feet; thence North 02 degrees 26 minutes 53 seconds West, a distance of 34.03 feet to the point of beginning thence North 01 degree 56 minutes 45 seconds West, a distance of 188.77 feet to a point on the South right-of-way line of US 56 highway; thence North 87 degrees 56 minutes 15 seconds East along the South right-of-way line of US 56 Highway, a distance of 60.00 feet; thence South 01 degree 56 minutes 45 seconds East, a distance of 178.30 feet to a point on the North right-of-way line of Santa Fe Street; thence South 78 degrees 02 minutes 42 seconds West along the North right-of-way line of Santa Fe Street, a distance of 60.93 feet to the point of beginning, containing 11,011.72 Sq. Ft. or 0.25 Ac. more or less, subject to that part in roads and easements.

Any person may inspect, by appointment, the request in person at the FAA office listed above FOR FURTHER INFORMATION CONTACT. In addition, any person may, upon appointment and request, inspect the application, notice and other documents determined by the FAA to be related to the application in person at the New Century AirCenter Airport.

Issued in Kansas City, MO on April 11, 2019.
Jim A. Johnson,
Director, Airports Division Central Region.

[FR Doc. 2019-08364 Filed 4-24-19; 8:45 am]

BILLING CODE 4910-13-P